Proclamation 7500 of November 12, 2001

National American Indian Heritage Month, 2001

By the President of the United States of America

A Proclamation

The strength of our Nation comes from its people. As the early inhabitants of this great land, the native peoples of North America played a unique role in the shaping of our Nation's history and culture. During this month when we celebrate Thanksgiving, we especially celebrate their heritage and the contributions of American Indian and Alaska Native peoples to this Nation.

Since our Nation's birth, pluralism and diversity have been hallmarks of the American experience and success. In 1782, the Founding Fathers chose as our national motto “E Pluribus Unum,” which means “out of many, one.” Today, America's unity, derived from a mix of many diverse cultures and people, grandly embodies the vision expressed by our Founders. American Indian and Alaska Native cultures have made remarkable contributions to our national identity. Their unique spiritual, artistic, and literary contributions, together with their vibrant customs and celebrations, enliven and enrich our land.

As we move into the 21st century, American Indians and Alaska Natives will play a vital role in maintaining our Nation's strength and prosperity. Almost half of America's Native American tribal leaders have served in the United States Armed Forces, following in the footsteps of their forebears who distinguished themselves during the World Wars and the conflicts in Korea, Vietnam, and the Persian Gulf.

Their patriotism again appeared after the September 11 attacks, as American Indian law enforcement officers volunteered to serve in air marshal programs. On the local level, American Indians and Alaska Natives are strengthening their communities through education and business development, opening the doors to opportunity, and contributing to a brighter future for all.

My Administration will continue to work with tribal governments on a sovereign to sovereign basis to provide Native Americans with new economic and educational opportunities. Indian education programs will remain a priority, so that no American child, including no Native American child, is left behind. We will protect and honor tribal sovereignty and help to stimulate economic development in reservation communities. We will work with the American Indians and Alaska Natives to preserve their freedoms, as they practice their religion and culture.

During National American Indian Heritage Month, I call on all Americans to learn more about the history and heritage of the Native peoples of this great land. Such actions reaffirm our appreciation and respect for their traditions and way of life and can help to preserve an important part of our culture for generations yet to come.

NOW, THEREFORE, I, GEORGE W. BUSH, President of the United States of America, by virtue of the authority vested in me by the Constitution and laws of the United States, do hereby proclaim November 2001 as National American Indian Heritage Month. I call upon the people of the United States to observe this month with appropriate programs and activities.

IN WITNESS WHEREOF, I have hereunto set my hand this twelfth day of November, in the year of our Lord two thousand one, and of the Independence of the United States of America the two hundred and twenty-sixth.

B

[FR Doc. 01-28805

Filed 11-14-01; 9:34 am]

Billing code 3195-01-P